NATIONAL AERONAUTICS AND SPACE ADMINISTRATION

[Notice (06-024)]

Privacy Act of 1974; Privacy Act System of Records

AGENCY: National Aeronautics and Space Administration (NASA).

ACTION: Notice of Privacy Act system of records.

SUMMARY: Each Federal agency is required by the Privacy Act of 1974 to publish description of the systems of records it maintains containing personal information when a system is substantially revised, deleted, or created. In this notice, NASA provides the required information for a new system of records that will enable NASA civil servants and support contractors to evaluate education programs. The information collected is used in the administration of Federal funded Training Programs and is used to document the nomination of participants and completion of training; and it serves as the principal repository of personal, fiscal, and administrative information about participants and the programs in which they participate. In order to measure the reach of NASA's Education Programs, some requested personal information such as gender, nationality, disability, and ethnicity is only requested on a voluntary basis. Finally, in order to assess training program effectiveness and to determine necessary changes/improvements to its programs, NASA needs to be able to contact program participants and principal investigators and is collecting and maintaining personal data in order to do so.

DATES: Submit comments on or before 60 calendar days from the date of this publication.

ADDRESSES: Send comments to Patti F. Stockman, Privacy Officer, Office of the Chief Information Officer, Suite 6Q79, NASA Headquarters, 300 E Street, SW., Washington, DC 20546-0001, NASA-PAOfficer@nasa.gov.

FOR FURTHER INFORMATION CONTACT: NASA Privacy Act Officer Patti F. Stockman, 202-358-4787, NASA-PAOfficer@nasa.gov.

NASA 10EDUA

System Name:

NASA Education Program Evaluation System.

Security Classification:

None.

System Location:

Secure NASA and NASA contractor Servers in Locations 1 through 11 as set forth in Appendix A.

Categories of Individuals Covered by the System:

Records will be maintained on NASA civil servants and contractors serving as Education Program/Project Managers and Session Presenters, as well as on Program Participants and members of the public including students (K-12 and Higher Education), teachers, faculty, school administrators, and participants' parents/guardians/family members. Records are also maintained on the performance outcomes by Principal Investigators and their institutions and organizations that have been awarded grants under the Minority University Research and Education Program.

Categories of Records in the System:

Records in the system include identifying information about students enrolled in and/or graduated from NASA programs and whether students are promoted to the next grade level in math and/or science. Personal data is also maintained on Program managers, Program points of contact, and Session Presenters including information that includes, but is not limited to name, work address and telephone. Information about Program participants includes, but is not limited to, name, permanent and school addresses, ethnicity, gender, school grade or college level, highest attained degree and degree field, institution type, and ratings about program/experience.

Authority for Maintenance of the System:

42 U.S.C. 2473 (2003); 44 U.S.C. 3101; 5 U.S.C. 4101 et seq.

Routine Uses of Records Maintained in the System, Including Categories of Users and the Purpose of Such Uses:

Any disclosures of information will be compatible with the purpose for which the Agency collected the information. The records and information in these records may be used to:

(1) Provide information to NASA support contractors or partners on Education grants who have access to the information to fulfill their responsibilities of (a) providing and managing the Education programs on behalf of NASA, or of (b) maintaining the systems in which the information resides;

(2) Disclosure may be made to a congressional office from the record of an individual in response to an inquiry from the congressional office made at the request of that individual; and

(3) Standard routine uses 1 through 4 inclusive as set forth in Appendix B.

Policies and Practices for Storing, Retrieving, Accessing, Retaining, and Disposing of Records in the System:

Storage:

Stored on secure server as electronic records.

Retrievability:

Records are indexed and may be searched by any one or a combination of choices by authorized users to include name, identification number, zip code, state, grade level and institution.

Safeguards:

Access to records is password controlled based on functional user roles in the program. Information system security is managed in accordance with OMB Circular A-130, “Management of Federal Information Resources.”

Retention and Disposal:

The records in this System of Records are managed, retained and dispositioned in accordance with the guidelines defined in NASA Procedural Requirements (NPR) 1441.1, NASA Records Retention Schedules, Schedule 1, item 32.

System Manager(s) and Address:

Director of Education, Office of Strategic Communications, Location 1 (see Appendix A).

Notification Procedure:

Contact System Manager by mail at Location 1 (See Appendix A).

Record Access Procedure:

Individuals who wish to gain access to their records should submit their request in writing to the System Manager at the addresses given above.

Contesting Record Procedures:

The NASA regulations governing access to records, procedures for contesting the contents and for appealing initial determinations are set forth in 14 CFR part 1212.

Record Source Categories:

The information is obtained directly from NASA Education Program Managers, presenters, Participants, and Principal Investigators.

Dated: March 30, 2006.
Patricia L. Dunnington,
Chief Information Officer.

Appendix A—Location Numbers and Mailing Addresses of NASA Installations at Which Records are Located

Location 1.

NASA Headquarters, National Aeronautics and Space Administration Washington, DC 20546-0001

Location 2.

Ames Research Center, National Aeronautics and Space Administration, Moffett Field, CA 94035-1000

Location 3.

Dryden Flight Research Center, National Aeronautics and Space Administration, PO Box 273, Edwards, CA 93523-0273

Location 4.

Goddard Space Flight Center, National Aeronautics and Space Administration, Greenbelt, MD 20771-0001

Location 5.

Lyndon B. Johnson Space Center, National Aeronautics and Space Administration, Houston, TX 77058-3696

Location 6.

John F. Kennedy Space Center, National Aeronautics and Space Administration, Kennedy Space Center, FL 32899-0001

Location 7.

Langley Research Center, National Aeronautics and Space Administration, Hampton, VA 23681-2199

Location 8.

John H. Glenn Research Center at Lewis Field, National Aeronautics and Space Administration, 21000 Brookpark Road, Cleveland, OH 44135-3191

Location 9.

George C. Marshall Space Flight Center, National Aeronautics and Space Administration, Marshall Space Flight Center, AL 35812-0001

Location 10.

HQ NASA Management Office-JPL, National Aeronautics and Space Administration, 4800 Oak Grove Drive, Pasadena, CA 91109-8099

Location 11.

John C. Stennis Space Center, National Aeronautics and Space Administration, Stennis Space Center, MS 39529-6000

Appendix B—Standard Routine Uses—NASA

The following routine uses of information contained in systems of records, subject to the Privacy Act of 1974, are standard for many NASA systems. They are cited by reference in the paragraph “Routine uses of records maintained in the system, including categories of users and the purpose of such uses” of the Federal Register Notice on those systems to which they apply.

Standard Routine Use No. 1—LAW ENFORCEMENT—In the event that this system of records indicates a violation or potential violation of law, whether civil, criminal, or regulatory in nature, and whether arising by general statute or particular program statute, or by regulation, rule or order issued pursuant thereto, the relevant records in the system of records may be referred, as a routine use, to the appropriate agency, whether Federal, State, local or foreign, charged with the responsibility of investigating or prosecuting such violation or charged with enforcing or implementing the statute, or rule, regulation or order issued pursuant thereto.

Standard Routine Use No. 2—DISCLOSURE WHEN REQUESTING INFORMATION—A record from this system of records may be disclosed as a ‘routine use’ to a Federal, State, or local agency maintaining civil, criminal, or other relevant enforcement information or other pertinent information, such as current licenses, if necessary to obtain information relevant to an agency decision concerning the hiring or retention of an employee, the issuance of a security clearance, the letting of a contract, or the issuance of a license, grant, or other benefit.

Standard Routine Use No. 3—DISCLOSURE OF REQUESTED INFORMATION—A record from this system of records may be disclosed to a Federal agency, in response to its request, in connection with the hiring or retention of an employee, the issuance of a security clearance, the reporting of an investigation of an employee, the letting of a contract, or the issuance of a license, grant, or other benefit by the requesting agency, to the extent that the information is relevant and necessary to the requesting agency's decision on the matter.

Standard Routine Use No. 4—COURT OR OTHER FORMAL PROCEEDINGS—In the event there is a pending court or formal administrative proceeding, any records which are relevant to the proceeding may be disclosed to the Department of Justice or other agency for purposes of representing the Government, or in the course of presenting evidence, or they may be produced to parties or counsel involved in the proceeding in the course of pretrial discovery.

[FR Doc. E6-5128 Filed 4-6-06; 8:45 am]

BILLING CODE 7510-13-P